DEPARTMENT OF COMMERCE

National Oceanic and Atmospheric Administration

[RTID 0648-XF515]

North Pacific Fishery Management Council; Public Meeting

AGENCY: National Marine Fisheries Service (NMFS), National Oceanic and Atmospheric Administration (NOAA), Commerce.

ACTION: Notice of web conference.

SUMMARY: The North Pacific Fishery Management Council (NPFMC) Ecosystem Committee will meet March 6, 2026.

DATES: The meeting will be held on Friday, March 6, 2026, from 8:30 a.m. to 12 p.m. Alaska Time.

ADDRESSES: The meeting will be held via web conference. Join online through the link at https://meetings.npfmc.org/Meeting/Details/3123.

Council address: North Pacific Fishery Management Council, 1007 W 3rd Ave., Anchorage, AK 99501-2252; telephone: (907) 271-2809.

FOR FURTHER INFORMATION CONTACT: Katie Latanich, Council staff; phone; (907) 271-2809 and email: klatanich@npfmc.org. For technical support, please contact administrative Council staff, email: support@npfmc.org.

SUPPLEMENTARY INFORMATION:

Agenda

Friday March 6, 2026

The Ecosystem Committee agenda will include: (a) Introductions and Terms of Reference: (b) Discuss Council's Inflation Reduction Act (IRA)/climate resilience activities, including discussion and prioritization of potential new activities; (c) Review Essential Fish Habitat (EFH) 5-Year review plan and discuss anticipated information products and potential committee role in review; and receive an overview of the Alaska Climate and Sponge Initiative; (d) Review the Groundfish Management Policy triennial review approach adopted by the Council in December 2025 and prepare for review of future draft products. The agenda is subject to change, and the latest version will be posted at https://meetings.npfmc.org/Meeting/Details/3123 prior to the meeting, along with meeting materials.

Connection Information

You can attend the meeting online using a computer, tablet, or smartphone, or by phone only. Connection information will be posted online at: https://meetings.npfmc.org/Meeting/Details/3123.

Public Comment

Public comment letters will be accepted and should be submitted electronically to https://meetings.npfmc.org/Meeting/Details/3123.

Authority: 16 U.S.C. 1801 et seq.

Dated: February 18, 2026.
Becky J. Curtis,
Acting Deputy Director, Office of Sustainable Fisheries, National Marine Fisheries Service.

[FR Doc. 2026-03410 Filed 2-19-26; 8:45 am]

BILLING CODE 3510-22-P